DEPARTMENT OF COMMERCE

International Trade Administration

Public Meeting on the Influence of European Standards in the Middle East and North Africa

AGENCY: International Trade Administration, Department of Commerce.

ACTION: Engage stakeholders in a dialogue on the increased use of European standards in the Middle East and North Africa and market access for U.S. exporters. Invite public comment on this subject.

SUMMARY: The use of European standards in the Middle East and North Africa is growing. The European Union (EU) is providing technical assistance and building ties to harmonize regulations and standards so as to facilitate trade between the EU and these regions. This meeting will provide U.S. industry an opportunity to exchange their experiences and express their views on this subject.

DATES: The date of the meeting is Thursday, February 15, 2007.

ADDRESSES: You may submit comments, identified by any of the following methods:

• E-mail: Jennifer.Derstine@mail.doc.gov.

• Fax: 202-482-0878.

• Mail: U.S. Department of Commerce, Room 2029B, 14th and Constitution Avenue, NW., Washington, DC 20230.

• Hand Delivery/Courier: U.S. Department of Commerce, Room 2029B, 14th and Constitution Avenue, NW., Washington, DC 20230.

FOR FURTHER INFORMATION CONTACT: Jennifer Derstine, Room 2029B, 14th and Constitution Avenue, NW., Washington, DC 20230, (202) 482-1870.

SUPPLEMENTARY INFORMATION: For more than ten years the European Commission has offered technical assistance to a broad group of countries in institution building, developing regulatory and administrative infrastructure, and support for conformity assessment, market surveillance, and metrology organizations. Europe's financial and technical support makes countries more open to using European standards and facilitates two-way trade between these markets. Ties between the EU and specific markets in the region are also being solidified through partnership agreements with CEN, the European Committee for Standardization, and through affiliate membership in CENELEC, the European Committee for Electrotechnical Standardization. CEN's Partner Standardization Body (PSB) agreements, which some Middle Eastern and North African countries are considering signing, typically have a clause that requires signatories to withdraw conflicting national standards from the market. Israel is considering a partnership agreement with CEN and an affiliation with CENELEC. Egypt and Tunisia are the only other Middle East or North African countries known to have signed a partnership agreement with CEN. Tunisia is also an affiliate of CENELEC.

The Department of Commerce cordially invites all interested stakeholders to attend a public meeting on the presence of European standards in the Middle East and North Africa. The meeting is an opportunity for interested parties to provide information and input to the U.S. government on how this trend in standardization affects market access for U.S. goods in the region. Key government officials working directly on this issue from various agencies will be in attendance.

Date: Thursday, February 15, 2007.

Time: 10 a.m.-12 p.m.

Where: U.S. Department of Commerce, 14th and Constitution Avenue, NW.

To gain access to the Department of Commerce, please RSVP by noon on Wednesday, February 14, 2007, to Jennifer Derstine at (202) 482-1870 or Jennifer.Derstine@mail.doc.gov.

The agenda will be provided at the meeting. Further information is available on the Department of Commerce Standards Initiative Web site at: http://www.trade.gov/standards.

Dated: January 25, 2007.
Jennifer Derstine,
Senior International Trade Specialist.

[FR Doc. E7-1521 Filed 1-30-07; 8:45 am]

BILLING CODE 3510-DA-P